NATIONAL AERONAUTICS AND SPACE ADMINISTRATION

[Notice 15-119]

Notice of Availability of Partnerships for Commercial Optical Communication Systems

AGENCY: National Aeronautics and Space Administration.

ACTION: Notice of Announcement for Partnerships for Commercial Optical Communication Systems.

SUMMARY: This notice is issued in accordance with the Federal Technology Transfer Act (FTTA), 15 U.S.C. 3710a, to enter into Cooperative Research and Development Agreements. These CRADAs will serve as a mechanism for NASA and its partners to agree to a series of mutually beneficial activities, which are expected to be consistent with NASA's 2014 Strategic Plan. There must be specific, identifiable alignment with one or more elements of Strategic Goal 2, Objective 2.3 to optimize Agency technology investments, foster open innovation, and facilitate technology infusion, ensuring the greatest national benefit. This effort also aligns with the Presidential Memorandum of October 28, 2011, on Accelerating Technology Transfer and Commercialization of Federal Research in Support of High Growth Businesses.

DATES: Proposal Executive Summaries are due January 22, 2016, 5:00 p.m. EST.

FOR FURTHER INFORMATION CONTACT: Requests for more information should be directed to Enidia Santiago-Arce, (301) 286-5810, gsfc-partnerships@mail.nasa.gov, NASA Goddard Space Flight Center, 8800 Greenbelt Road GSFC: 504, 022:290J, Greenbelt, MD, 20771.

SUPPLEMENTARY INFORMATION: NASA is in the early stages of developing new and innovative technologies in the area of optical communications. This new initiative is a collaboration activity to provide an opportunity to partner with NASA and is not intended to preclude ongoing or future partnerships discussions directly with NASA Centers or Mission Directorates for use of NASA personnel services or facilities. Entities with existing Agreements with NASA Centers or Mission Directorates are not required to respond to this Announcement to retain those Agreements. Participation in one initiative does not preclude participation in any of the others. Companies are free to interact with NASA in any or all of the initiatives that support their organization's goals. A copy of this Announcement of Partnerships (AFP) could be obtained at http://partnerships.gsfc.nasa.gov/pcocs or by contacting Enidia Santiago-Arce. Proposal Executive Summaries should be submitted to NASA-GSFC on January 22, 2016 by 5:00 p.m. EST.

NASA is soliciting executive summaries for proposals from all interested U.S. private sector enterprises that wish to enter into a Reimbursable Cooperative Research and Development Agreements (CRADA) for Partnerships for Commercial Optical Communication Systems (PCOCS). The purpose of these agreements is to advance commercial space-related efforts by facilitating access to NASA's spaceflight resources including technical expertise, assessments, lessons learned, and data. With this activity, NASA intends to focus on facilitating the development of integrated optical communications space capabilities. Examples of these capabilities include, but are not limited to, ground station management; flight and ground optical systems; ground network deployment; and space and ground terminal facilities operations.

Cheryl E. Parker,
Federal Register Liaison Officer.

[FR Doc. 2015-32292 Filed 12-24-15; 8:45 am]

BILLING CODE 7510-13-P